ENVIRONMENTAL PROTECTION AGENCY

[EPA-HQ-OAR-2007-0358; FRL-9994-91-OMS]

Information Collection Request Submitted to OMB for Review and Approval; Comment Request; Responsible Appliance Disposal Program (Renewal)

AGENCY: Environmental Protection Agency (EPA).

ACTION: Notice.

SUMMARY: The Environmental Protection Agency (EPA) has submitted an information collection request (ICR), Responsible Appliance Disposal Program (EPA ICR Number 2254.03, OMB Control Number 2060-0703) to the Office of Management and Budget (OMB) for review and approval in accordance with the Paperwork Reduction Act. This is a proposed extension of the ICR, which is currently approved through August 31, 2019. Public comments were previously requested via the Federal Register on February 8, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 30, 2019.

ADDRESSES: Submit your comments, referencing Docket ID Number EPA-HQ-OAR-2007-0358, to (1) EPA online using www.regulations.gov (our preferred method), by email to a-and-r-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sally Hamlin, Stratospheric protection Division, Office of Atmospheric Programs (mail code 6205T), Environmental Protection Agency, 1200 Pennsylvania Ave. NW, Washington, DC 20460; telephone number: (202) 343-9711; fax number: (202) 343-2362; email address: Hamlin.sally@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: The Responsible Appliance Disposal Program (RAD) is a voluntary partnership program sponsored by the Environmental Protection Agency (EPA) that reduces emissions of ozone depleting substances (ODS) that can be attributed to improper disposal of appliances. Appliances can contain ozone depleting refrigerants and foams as well as universal wastes such as mercury, used oil, and polychlorinated biphenyls (PCB). Federal law requires refrigerant recovery and proper management of universal waste but does not require the recovery of appliance foam. In addition to being ODS, foam blowing agents and refrigerants in appliances may also have high global warming potentials (GWPs). The RAD program works with utilities, retailers, manufacturers, state agencies, affiliates, and others to dispose of appliances using best environmental practices.

Form Numbers: 5900-32.

Respondents/affected entities: The following is a list of North American Industry Classification System (NAICS) codes for organizations potentially affected by the information requirements covered under this ICR are Utilities (2211), Manufacturers (3352), Retailers (443141), Universities (611310), and States/Municipalities (999300).

Respondent's obligation to respond: Voluntary.

Estimated number of respondents: 48 (over three years).

Frequency of response: Annual, and when desired.

Total estimated burden: 292 hours (per year). Burden is defined at 5 CFR 1320.03(b).

Total estimated cost: $36,753 (per year), includes $0 annualized capital or operation & maintenance costs.

Changes in Estimates: There is a decrease of 33 hours in the total estimated respondent burden compared with the 325 hours for the ICR currently approved by OMB. This decrease is due to a decrease in the number of respondents due to recycling industry changes, as well as a reduction in the number of partners participating in the program each year.

Courtney Kerwin,
Director, Regulatory Support Division.

[FR Doc. 2019-18731 Filed 8-29-19; 8:45 am]

BILLING CODE 6560-50-P